FEDERAL COMMUNICATIONS COMMISSION

47 CFR Part 73

[DA 02-296; MM Docket No. 01-250, RM-10273; MM Docket No. 01-251, RM-10274 and MM Docket No. 01-253, RM-10276]

Radio Broadcasting Services; Cheyenne Wells, Flagler, and Stratton, CO

AGENCY: Federal Communications Commission.

ACTION: Final rule.

SUMMARY: This document grants three proposals that allot new FM channels to Cheyenne Wells, Flagler, and Stratton, Colorado. Filing windows for Channel 224C1 at Cheyenne Wells, Colorado, Channel 283C3 at Flagler, Colorado, and Channel 246C1 at Stratton, Colorado, will not be opened at this time. Instead, the issue of opening these allotments for auction will be addressed by the Commission in a subsequent order. See Supplementary Information.

DATES: Effective March 25, 2002.

FOR FURTHER INFORMATION CONTACT: R. Barthen Gorman, Mass Media Bureau, (202) 418-2180.

SUPPLEMENTARY INFORMATION: This is a synopsis of the Commission's Report and Order in MM Docket No. 01-250, MM Docket No. 01-251, and MM Docket No. 01-253, adopted January 30, 2002, and released February 8, 2002. The full text of this Commission decision is available for inspection and copying during normal business hours in the FCC Reference Information Center at Portals II, 445 12th Street, SW., Room CY-A257, Washington, DC 20554. The document may also be purchased from the Commission's duplicating contractor, Qualex International, Portals II, 445 12th Street, SW., Room CY-B402, Washington, DC 20554, telephone 202 863-2893, facsimile 202 863-2898, or via e-mail qualexint@aol.com.

The Commission, at the request of Cheyenne Wells Broadcasting, allots Channel 224C1 at Cheyenne Wells, Colorado, as the community's first local aural transmission service. See 66 FR 50602 (October 4, 2001). Channel 224C1 can be allotted at Cheyenne Wells in compliance with the Commission's minimum distance separation requirements with no site restrictions. The coordinates for Channel 224C1 at Cheyenne Wells are 38-49-16 North Latitude and 102-21-09 West Longitude.

The Commission, at the request of Flagler Broadcasting, allots Channel 283C3 at Flagler, Colorado, as the community's first local aural transmission service. See 66 FR 50602 (October 4, 2001). Channel 283C3 can be allotted to Flagler in compliance with the Commission's minimum distance separation requirements with a site restriction of 6.5 kilometers (4.1 miles) west of Flagler. The coordinates for Channel 283C3 at Flagler are 39-17-17 North Latitude and 103-08-32 West Longitude.

The Commission, at the request of Stratton Broadcasting, allots Channel 246C1 at Stratton, Colorado, as the community's first local aural transmission service. See 66 FR 50602 (October 4, 2001). Channel 246C1 can be allotted to Stratton in compliance with the Commission's minimum distance separation requirements with a site restriction of 4.3 kilometers (2.7 miles) east of Stratton, Colorado. The coordinates for Channel 246C1 at Stratton are 39-18-34 North Latitude and 102-33-17 West Longitude.

List of Subjects in 47 CFR part 73

Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Colorado, is amended by adding Cheyenne Wells, Channel 224C1; Flagler, Channel 283C3; and Stratton, Channel 246C1.

Federal Communications Commission.
John A. Karousos,
Chief, Allocations Branch, Policy and Rules Division, Mass Media Bureau.

[FR Doc. 02-4218 Filed 2-21-02; 8:45 am]

BILLING CODE 6712-01-P